DEPARTMENT OF AGRICULTURE

Forest Service

Daniel Boone Resource Advisory Committee

AGENCY: Forest Service, USDA.

ACTION: Notice of meeting.

SUMMARY: The Daniel Boone Resource Advisory Committee (RAC) will meet in London, Kentucky. The committee is authorized under the Secure Rural Schools and Community Self-Determination Act (the Act) and operates in compliance with the Federal Advisory Committee Act. The purpose of the committee is to improve collaborative relationships and to provide advice and recommendations to the Forest Service concerning projects and funding consistent with title II of the Act. Additional RAC information, including the meeting agenda and the meeting summary/minutes can be found at the following Web site: http://cloudapps-usda-gov.force.com/FSSRS/RAC_Page?id=001t0000002JcvEAAS.

DATES: The meeting will be held Tuesday, October 27, 2015; at 6:00 p.m.

All RAC meetings are subject to cancellation. For status of meeting prior to attendance, please contact the person listed under FOR FURTHER INFORMATION CONTACT.

ADDRESSES: The meeting will be held at Cumberland Valley Area Development District Office Building, Basement Conference Room, 342 Old Whitley Road, London, Kentucky.

Written comments may be submitted as described under SUPPLEMENTARY INFORMATION. All comments, including names and addresses when provided, are placed in the record and are available for public inspection and copying. The public may inspect comments received at the Daniel Boone National Forest Supervisor's Office, 1700 Bypass Road, Winchester, Kentucky. Please call ahead to facilitate entry into the building.

FOR FURTHER INFORMATION CONTACT: Tim Reed, Designated Federal Officer, by phone at 606-376-5323 or via email at timreed@fs.fed.us; or Kimberly Bonaccorso, RAC Coordinator, by phone at 859-745-3107 or via email at kjbonaccorso@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review and discuss project proposals submitted for Title II funding;

2. Hear committee recommendations for project approval; and

3. Hear public input concerning project proposals.

The meeting is open to the public. The agenda will include time for people to make oral statements of three minutes or less. Individuals wishing to make an oral statement should request in writing by October 13, 2015, to be scheduled on the agenda. Anyone who would like to bring related matters to the attention of the committee may file written statements with the committee staff before or after the meeting. Written comments and requests for time to make oral comments must be sent to Tim Reed, Designated Federal Officer, Stearns Ranger District, 3320 Highway 27 North, Whitley City, Kentucky, 42653; by email to timreed@fs.fed.us, or via facsimile to 606-376-3734.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: October 2, 2015.
Bill Lorenz,
Forest Supervisor.

[FR Doc. 2015-26084 Filed 10-13-15; 8:45 am]

BILLING CODE 3411-15-P